DEPARTMENT OF VETERANS AFFAIRS

Advisory Committee on Former Prisoners of War, Notice of Meeting

The Department of Veterans Affairs (VA) gives notice under the Federal Advisory Committee Act, 5 U.S.C. App. 2, that the Advisory Committee on Former Prisoners of War will meet on March 25-27, 2013, in Room 230 at VA Central Office, 810 Vermont Avenue NW, Washington, DC, from 9 a.m. each day and until 4 p.m. on March 25 and 12 noon on March 27. The meeting is open to the public.

The purpose of the Committee is to advise the Secretary of Veterans Affairs on the administration of benefits under Title 38, United States Code, for Veterans who are former prisoners of war, and to make recommendations on the needs of such Veterans for compensation, health care, and rehabilitation.

The agenda will include overviews of recent outreach efforts, as well as briefings on the current programs of the Veterans Benefits Administration and the Veterans Health Administration on providing care for Veterans who are former prisoners of war. There will also be numerous discussions and workgroups among the Committee members to formulate the next set of recommendations to the Secretary.

No time will be allocated at this meeting for oral presentations from the public. Individuals may submit written statements for the Committee's review to Ms. Pam Burd, Designated Federal Officer, Department of Veterans Affairs (212C), 810 Vermont Avenue NW., Washington, DC 20420, or email to pamela.burd@va.gov. Any member of the public seeking additional information should contact Ms. Burd at (202) 461-9149.

Dated: March 8, 2013.
By Direction of the Secretary.
Vivian Drake,
Committee Management Officer.

[FR Doc. 2013-05867 Filed 3-13-13; 8:45 am]

BILLING CODE P